DEPARTMENT OF HEALTH AND HUMAN SERVICES

Health Resources and Services Administration

Advisory Commission; Notice of Meeting

In accordance with Section 10(a)(2) of the Federal Advisory Committee Act (Public Law 92-463), announcement is made of the following National Advisory body scheduled to meet during the month of March 2001.

Name: Advisory Commission on Childhood Vaccines (ACCV).

Date and Time: March 7, 2001; 9:00 a.m.-3:00 p.m.

Place: Parklawn Building, Conference Rooms G and H, 5600 Fishers Lane, Rockville, Maryland 20857.

The meeting is open to the public.

The full Commission will meet on Wednesday, March 7, from 9:00 a.m. to 3:00 p.m. Agenda items will include, but not be limited to: (1) A presentation from Petitioners Attorneys' Perspective; (2) a discussion by the Chief Special Master of the U.S. Court of Federal Claims regarding its Alternative Dispute Resolution General Order #11, and soliciting comments from the public on the development of a new website; (3) and a report on the Institute of Medicine's Immunization Safety Review Committee. Updates from the Division of Vaccine Injury Compensation, Department of Justice, the National Vaccine Program Office, and routine program reports.

Public comment will be permitted before lunch and at the end of the Commission meeting on March 7, 2001. Oral presentations will be limited to 5 minutes per public speaker. Persons interested in providing an oral presentation should submit a written request, along with a copy of their presentation to: Ms. Cheryl Lee, Principal Staff Liaison, Division of Vaccine Injury Compensation, Bureau of Health Professions, Health Resources and Services Administration, Room 8A-46, 5600 Fishers Lane, Rockville, MD 20857, Telephone (301) 443-2124. Requests should contain the name, address, telephone number, and any business or professional affiliation of the person desiring to make an oral presentation. Groups having similar interests are requested to combine their comments and present them through a single representative. The allocation of time may be adjusted to accommodate the level of expressed interest. The Division of Vaccine Injury Compensation will notify each presenter by mail or telephone of their assigned presentation time.

Persons who do not file an advance request for a presentation, but desire to make an oral statement, may sign-up in the Conference Room at the Parklawn Building, 5600 Fishers Lane, Conference Rooms G and H, Rockville, Maryland 20857 on March 7, 2001. These persons will be allocated time as time permits.

Anyone requiring information regarding the Commission should contact Ms. Cheryl Lee, Principal Staff Liaison, Division of Vaccine Injury Compensation, Bureau of Health Professions, Health Resources and Services Administration, Room 8A-46, 5600 Fishers Lane, Rockville, Maryland 20857, Telephone (301) 443-2124.

Agenda items are subject to change as priorities dictate.

Dated: February 22, 2001.
Jane M. Harrison,
Director, Division of Policy Review and Coordination.

[FR Doc. 01-4854 Filed 2-27-01; 8:45 am]

BILLING CODE 4160-15-P